DEPARTMENT OF COMMERCE

International Trade Administration

[Docket No.: 050808218-5218-01]

Effect of the Propane Education and Research Council's Operation, Market Changes and Federal Programs on Propane Consumers

AGENCY: International Trade Administration, Department of Commerce.

ACTION: Notice of inquiry.

SUMMARY: The Department of Commerce (the Department) is seeking public comment on whether the operation of the Propane Education and Research Council (PERC), in conjunction with the cumulative effects of market changes and Federal programs, has had an effect on residential, agricultural, process and nonfuel users of propane. This notice of inquiry is part of an effort to collect information to fulfill requirements under the Propane Education and Research Act of 1996 that established PERC and requires the Secretary of Commerce to assess the impact of PERC's activities on propane consumers.

DATES: Comments on this notice must be submitted on or before September 19, 2005.

ADDRESSES: You may submit comments by any of the following methods:

E-mail: Shannon_Fraser@ita.doc.gov. Include the phrase “Propane Price Impacts on Consumers” in the subject line;

Fax: (202) 482-0170 (Attn: Shannon Fraser);

Mail or Hand Delivery/Courier: Shannon Fraser, U.S. Department of Commerce, 14th Street & Constitution Ave., NW., Suite 4053, Washington, DC 20230.

FOR FURTHER INFORMATION CONTACT: For questions on the submission of comments or to request copies of submitted comments, contact Shannon Fraser by telephone at (202) 482-3609, or e-mail at Shannon_Fraser@ita.doc.gov.

SUPPLEMENTARY INFORMATION: The Propane Education and Research Act of 1996 (Pub. L. 104-284) established the Propane Education and Research Council to enhance consumer and employee safety and training, to provide for research and development of clean and efficient propane utilization equipment, and to inform and educate the public about safety and other issues associated with the use of propane.

Section 12 of the Act requires the Secretary of Commerce to prepare and submit to Congress and the Secretary of Energy a report examining whether operation of the Council, in conjunction with the cumulative effects of market changes and Federal programs, has had an effect on propane consumers, including residential, agriculture, process, and nonfuel users of propane. The Secretary of Commerce shall consider and, to the extent practicable, shall include in the report submissions by propane consumers, and shall consider whether: (1) There have been long-term and short-term effects on propane prices as a result of the Council's activities and Federal programs; and (2) whether there have been changes in the proportion of propane demand attributable to various market segments. If the Secretary of Commerce concludes that there has been an adverse effect related to the Council's activities, the Secretary of Commerce shall make recommendations for correcting the situation.

In order to assist in the preparation of this study, the Department is seeking public comment on the effect of PERC's operation, market changes and Federal programs on propane consumers. For information on the operation and programs of PERC, you may visit PERC's Web site at http://www.propanecouncil.org or call PERC at (202) 452-8975.

The Department encourages interested persons who wish to comment to do so at the earliest possible time. The period for submission of comments will close on September 19, 2005. The Department will consider all comments received before the close of the comment period. Comments received after the end of the comment period will be considered if possible, but their consideration cannot be assured. The Department will not accept comments accompanied by a request that a part or all of the material be treated confidentially because of its business proprietary nature or for any other reason. The Department will return such comments and materials to the persons submitting the comments and will not consider them. All comments submitted in response to this notice will be a matter of public record and will be available for public inspection and copying. All comments must be submitted to the Department through one of the methods listed under ADDRESSES.

The office does not maintain a separate public inspection facility. If you would like to view any comments received in response to this solicitation, please contact the individual listed in FOR FURTHER INFORMATION CONTACT.

Joseph Bogosian,
Deputy Assistant Secretary for Manufacturing.

[FR Doc. E5-4514 Filed 8-17-05; 8:45 am]

BILLING CODE 3510-DR-P